DEPARTMENT OF COMMERCE

National Oceanic and Atmospheric Administration

[I.D. 082806C]

Endangered and Threatened Species; Recovery Plans

AGENCY: National Marine Fisheries Service (NMFS), National Oceanic and Atmospheric Administration, Commerce.

ACTION: Notice of Availability; request for comments.

SUMMARY: The National Marine Fisheries Service (NMFS) announces the availability of the Proposed Upper Columbia Spring Chinook Salmon, Steelhead, and Bull Trout Recovery Plan (Plan) for public review and comment. The Plan addresses the Upper Columbia Spring Chinook Salmon (Oncorhynchus tshawytscha) Evolutionarily Significant Unit (ESU), the Upper Columbia Steelhead (Oncorhynchus mykiss) Distinct Population Segment (DPS), and Bull Trout (Salvelinus confluentus) in the Upper Columbia region. The Plan was prepared by the Upper Columbia Salmon Recovery Board (UCSRB) in conjunction with NMFS. Bull trout, listed as threatened, are under the jurisdiction of the U.S. Fish and Wildlife Service (USFWS) and are the subject of a draft recovery plan published by the USFWS in 2002. NMFS is soliciting review and comment from the public and all interested parties on the spring Chinook salmon and steelhead portions of the Proposed Plan. If comments are received on the bull trout portion of the Plan, NMFS will pass them on to the USFWS.

DATES: NMFS will consider and address all substantive comments received during the comment period. Comments must be received no later than 5 p.m. Pacific Daylight Time on November 28, 2006.

ADDRESSES: Please send written comments and materials to Lynn Hatcher, National Marine Fisheries Service, 304 South Water Street, Ellensburg, WA 98926. Comments may also be submitted by e-mail to: UpperColumbiaPlan.nwr@noaa.gov. Include in the subject line of the e-mail comment the following identifier: Comments on Upper Columbia Salmon Plan. Comments may be submitted via facsimile (fax) to 503-872-2737.

Persons wishing to review the Plan can obtain an electronic copy (i.e., CD-ROM) from Carol Joyce by calling 503-230-5408 or by e-mailing a request to carol.joyce@noaa.gov, with the subject line “CD-ROM Request for Upper Columbia Salmon Plan”. Electronic copies of the Plan are also available on-line on the NMFS Web site; www.nwr.noaa.gov/Salmon-Recovery-Planning/ESA-Recovery-Plans/Draft-Plans.cfm or the Upper Columbia Salmon Recovery Board Web site; okanogancounty.org/planning/salmon_recovery.htm.

FOR FURTHER INFORMATION CONTACT: Lynn Hatcher, NMFS Interior Columbia Salmon Recovery Coordinator (509-962-8911 x223), or Elizabeth Gaar, NMFS Salmon Recovery Division (503-230-5434).

SUPPLEMENTARY INFORMATION:

Background

Recovery plans describe actions beneficial to the conservation and recovery of species listed under the Endangered Species Act of 1973 (ESA), as amended (16 U.S.C. 1531 et seq.). The ESA requires that recovery plans incorporate (1) objective, measurable criteria which, when met, would result in a determination that the species is no longer threatened or endangered; (2) site specific management actions necessary to achieve the plan's goals; and (3) estimates of the time required and costs to implement recovery actions. The ESA requires the development of recovery plans for listed species unless such a plan would not promote the recovery of a species.

NMFS' goal is to restore endangered and threatened Pacific salmon ESUs and steelhead DPSs to the point that they are again self sustaining members of their ecosystems and no longer need the protections of the ESA. NMFS believes it is critically important to base its recovery plans on the many state, regional, tribal, local, and private conservation efforts already underway throughout the region. Therefore, the agency supports and participates in locally led collaborative efforts to develop recovery plans, involving local communities, state, tribal, and Federal entities, and other stakeholders. As the lead ESA agency for listed salmon, NMFS is responsible for reviewing these locally produced recovery plans and deciding whether they meet ESA statutory requirements and merit adoption as proposed ESA recovery plans.

On December 30, 2005, the Upper Columbia Salmon Recovery Board (UCSRB) presented its locally developed draft recovery plan to NMFS. The UCSRB comprises representatives from Chelan County, Douglas County, Okanogan County, Yakama Nation, and the Confederated Colville Tribes. A variety of additional partners, representing Federal agencies, Washington State agencies, regional organizations, special purpose districts, and members of the public, also participated in the planning process.

After NMFS reviewed the draft plan, NMFS and the UCSRB made revisions to it, clarifying how it satisfies ESA recovery plan requirements and addressing additional elements needed to comply with those requirements. The jointly revised Plan is now available as a Proposed Recovery Plan for public review and comment.

Upon approval of a final Plan, NMFS will make a commitment to implement the actions in the Plan for which it has authority, to work cooperatively on implementation of other actions, and to encourage other Federal agencies to implement Plan actions for which they have responsibility and authority. NMFS will also encourage the State of Washington to seek similar implementation commitments from state agencies and local governments. NMFS expects the Plan to help NMFS and other Federal agencies take a more consistent approach to future section 7 consultations and other ESA decisions. For example, the Plan will provide greater biological context for the effects that a proposed action may have on the listed ESU and DPS. This context will be enhanced by adding recovery plan science to the “best available information” for section 7 consultations as well as for section 10 habitat conservation plans, and other ESA decisions. Such information includes viability criteria for the ESU, DPS, and their independent populations; better understanding of and information on limiting factors and threats facing the ESU and DPS; better information on priority areas for addressing specific limiting factors; and better geographic context for where the ESU and DPS can tolerate varying levels of risk.

The Plan

The Plan is one of many ongoing salmon recovery planning efforts funded under the Washington State Strategy for Salmon Recovery. The State of Washington designated the UCSRB as the Lead Entity for salmon recovery planning for the Upper Columbia. The Plan incorporates many aspects of the work of the Interior Columbia Technical Recovery Team (ICTRT) appointed by NMFS. The ICTRT reviewed early drafts of the Plan and will be providing an independent scientific peer review of the Proposed Recovery Plan. The UCSRB has included public involvement in its recovery planning process, having received extensive comments in January, April, and June of 2005.

ESU and DPS Addressed and Planning Area

The Plan is intended for implementation within the range of the Upper Columbia River Spring Chinook Salmon (O. tshawytscha) ESU, listed as endangered on March 24, 1999 (64 FR 14307), and the Upper Columbia River Steelhead (O. mykiss) DPS, listed as endangered on August 18, 1997 (62 FR 43937), and reclassified as threatened on January 5, 2006 (71 FR 834). The spring Chinook salmon ESU contains three independent populations: the Wenatchee, Entiat, and Methow. The steelhead DPS contains five independent populations: Wenatchee, Entiat, Methow, Okanogan, and Crab Creek. These independent populations were identified based on the genetic, geographic, and habitat characteristics they share within the ESU or the DPS.

The Plan states that the current status of Upper Columbia Chinook and steelhead populations was assessed by local planners in consultation with the ICTRT and state and tribal co-managers. In general, abundance of all spring Chinook salmon and steelhead populations has declined substantially from historical levels, and many populations are small enough that genetic and demographic risks are relatively high.

The Plan's Recovery Goals, Objectives and Criteria

The Plan's goal is to ensure long-term persistence of viable populations of naturally produced spring Chinook and steelhead distributed across their native range. The Plan incorporates the four parameters of abundance, productivity, spatial structure, and diversity, which are the basis of NMFS' viable salmonid population (VSP) framework (McElhany et al. 2000), as the foundation for biological status assessments and recovery goals.

The Plan's recovery (delisting) objectives include increasing the abundance of naturally produced spring Chinook and steelhead spawners within each population in the Upper Columbia ESU/DPS to levels considered viable; increasing the productivity (spawner:spawner ratios and smolts/redds) of naturally produced spring Chinook salmon and steelhead within each population to levels that result in low risk of extinction; restoring the distribution of naturally produced spring Chinook salmon and steelhead to previously occupied areas where practical; and conserving their genetic and phenotypic diversity.

Because spring Chinook are currently listed as endangered under the ESA, the Plan identifies two levels of objectives for them. The first level relates to reclassifying the species as threatened and the second relates to recovery (delisting). The reclassification objectives include increasing the abundance, productivity, and distribution of naturally produced spring Chinook salmon sufficient to lead to reclassification as threatened, and conserving their genetic and phenotypic diversity.

The Plan sets forth specific criteria to meet the recovery objectives, based on the ICTRT's recommended criteria, which, if met, would indicate a high probability of persistence into the future for Upper Columbia River spring Chinook salmon and steelhead. The Plan establishes criteria for 95- percent probability of persistence

(5-percent extinction risk) for all Upper Columbia spring Chinook salmon and all but one population of the steelhead DPS. The Plan concludes that the Upper Columbia steelhead DPS may be recovered without attaining the 95-percent probability of persistence for the Crab Creek population, based on the possibility that this population was not viable historically because of environmental conditions (e.g., intermittent stream flows and high water temperatures) and the assumption that the resident component of the Crab Creek population was historically the primary driver of the population's viability.

The ICTRT recently recommended a higher criterion for an ESU/DPS containing only one major population group (MPG), which is the case for both Upper Columbia spring Chinook salmon and Upper Columbia steelhead. The ICTRT recommended, in that case, that at least two populations should meet abundance/productivity criteria representing a 1-percent extinction risk (99-percent probability of persistence) over a 100-year period (ICTRT 2005b, p. 46). The ICTRT considers the 5-percent risk level “viable” and the 1-percent risk level “highly viable.” The Plan does not adopt this more recent recommendation; instead, as stated above, the Plan adopts the 5-percent extinction risk for abundance/productivity for all populations in the Chinook salmon ESU and all but one in the steelhead DPS.

NMFS accepts the UCSRB's recommended recovery (delisting) criteria, since it calls for all known extant populations within the Chinook ESU and steelhead DPS to be viable. Furthermore, NMFS believes that it is not possible at this time to distinguish between the levels of effort needed to attain 95- vs. 99-percent probability of persistence; therefore, the Plan's actions would not change at this time in response to the ICTRT's more recently recommended criterion. Finally, NMFS will re-evaluate ESU and DPS status and the appropriateness of the recovery criteria in 5 years or less based on additional data from monitoring and research on critical uncertainties and could modify the recovery plan accordingly.

In accordance with its responsibilities under ESA section 4(c)(2), NMFS will conduct status reviews of the listed Upper Columbia spring Chinook salmon ESU and Upper Columbia steelhead DPS at least once every 5 years to evaluate their status and determine whether the ESU or DPS should be removed from the list or changed in status. Such evaluations will take into account the following:

• The biological recovery criteria (ICTRT 2005b) and listing factor (threats) criteria described in the Plan.

• The management programs in place to address the threats.

• Principles presented in the Viable Salmonid Populations paper (McElhany et al. 2000).

• Best available information on population and ESU status and new advances in risk evaluation methodologies.

• Other considerations, including: the number and status of extant spawning groups; the status of the major spawning groups; linkages and connectivity among groups; the diversity of life history and phenotypes expressed; and considerations regarding catastrophic risk.

• Principles laid out in NMFS' Hatchery Listing Policy (70 FR 37204, June 28, 2005).

Causes for Decline and Current Threats

The Plan identifies the following causes for decline and threats to the ESU/DPS:

Habitat: Human activities have altered and/or curtailed habitat-forming processes and limited the habitat suitable for spring Chinook salmon and steelhead in the Upper Columbia River tributaries. Although recent land and water management practices have improved, some storage dams, diversions, roads and railways, agriculture, residential development, and forest management continue to threaten spring Chinook salmon and steelhead and their habitat. The result has been deleterious changes in water flow, water temperature, sedimentation, floodplain dynamics, riparian function, and other aspects of the ecosystem.

Hydroelectric operations: Conditions for Upper Columbia spring Chinook salmon and steelhead have been fundamentally altered throughout the Columbia River basin by the construction and operation of mainstem dams and reservoirs for power generation, navigation, and flood control. Upper Columbia salmon and steelhead are adversely affected by hydrosystem-related flow and water quality effects, obstructed and/or delayed passage, and ecological changes in impoundments.

Harvest: Harvest of Upper Columbia Chinook salmon and steelhead occurs in commercial, recreational, and tribal fisheries in the mainstem Columbia, and in some tributaries. Upper Columbia spring Chinook salmon and steelhead are rarely taken in ocean fisheries; most harvest of these listed species occurs in the Columbia mainstem and some tributaries. Aggregate harvest rates (from fishing in all areas) have generally been reduced from their peak periods as a result of international treaties, fisheries conservation acts, the advent of weak stock management in the 1970s and 1980s, regional conservation goals, and the listing of many salmon ESUs and steelhead DPSs under the ESA. While fisheries do not target weak stocks of listed salmon or steelhead, listed fish are incidentally caught in fisheries directed at hatchery and healthy, unlisted wild stocks.

Hatcheries: In the Upper Columbia Region, the 12 hatcheries currently producing spring Chinook and steelhead are operated to mitigate for loss of habitat and for passage mortalities resulting from the Columbia River hydrosystem. These hatcheries provide valuable mitigation and/or conservation benefits but can cause substantial adverse impacts if not properly managed. The Plan describes the risks to listed fish from these hatcheries, including genetic effects that reduce fitness and survival, ecological effects such as competition and predation, facility effects on passage and water quality, mixed stock fishery effects, and masking the true status of wild populations.

Additional Factors: The Plan considers that there could be additional factors that affect Upper Columbia River spring Chinook salmon and steelhead, including changes in estuarine habitat, global climate change, inadequacy of existing regulatory mechanisms, fluctuating ocean cycles, and predation.

Recovery Strategies and Actions

The Plan's initial approach is to target reductions in all manageable threats and to improve the status of all extant Upper Columbia spring Chinook and steelhead populations. As monitoring and evaluation programs improve understanding of the effectiveness of various actions and their benefits throughout the life cycle of salmon and steelhead, adjustments may be made through the adaptive management framework described in the Plan.

The Plan describes objectives and strategies and recommends specific actions for Upper Columbia spring Chinook salmon and steelhead recovery. Among the most significant recommendations are the following:

Habitat: The Plan includes habitat restoration actions in all streams that currently support or may support (in a restored condition) listed spring Chinook salmon and steelhead in the Upper Columbia Basin. The objectives and recommended actions are derived from subbasin plans, watershed plans, the Upper Columbia Biological Strategy, the Douglas County public utility district (PUD) and Chelan County PUD Anadromous Fish Agreement and Habitat Conservation Plans (AFAHCPs), and relicensing agreements. The Plan emphasizes actions that: protect existing areas where high ecological integrity and natural ecosystem processes persist; restore connectivity (access) throughout the historical range, where feasible and practical; protect and restore riparian habitat along spawning and rearing streams and identify long term opportunities for riparian habitat enhancement; protect and restore floodplain function and reconnection, off channel habitat, and channel migration processes where appropriate; and increase habitat diversity by rebuilding, maintaining, and adding instream structures (e.g., large woody debris, rocks, etc.) where long term channel form and function efforts are not feasible.

Hydroelectric operations: Upper Columbia spring Chinook and steelhead migrate through four federally owned projects and three to five projects owned by PUDs. These projects are licensed by the Federal Energy Regulatory Commission. The Plan acknowledges that hydropower strategies and actions are being implemented, reviewed, and considered in several ongoing processes, including Federal Columbia River Power System (FCRPS) ESA section 7 consultations (for the lower four Federal dams on the Columbia River), the AFAHCPs and relicensing agreements. The Plan's recommended actions are intended to be consistent with these processes. The Plan emphasizes continued implementation of the actions identified in the AFAHCPs, which adopted a standard of no net impact (NNI) on the Upper Columbia Spring Chinook Salmon ESU and steelhead DPS.

Harvest: Harvest objectives for treaty and non-treaty salmon and steelhead fisheries in the Columbia River Basin are set by the applicable state, tribal, and Federal agencies. Fishery objectives from McNary Dam to the mouth of the Columbia River (fishing zones 1-6) are established by state, tribal, and Federal parties in U.S. v. Oregon, 302 F. Supp. 899 (D. Or. 1969). While recognizing the role of the treaty and non-treaty co-managers, the Plan proposes that the U.S. v. Oregon parties incorporate Upper Columbia recovery goals when formulating fishery plans affecting Upper Columbia spring Chinook salmon and steelhead. The appropriate co-managers and fishery management agencies are also asked to work together with local stakeholders to develop tributary fisheries management goals and plans.

Hatcheries: The hatchery strategies and actions in the Plan are being reviewed and considered in several ongoing processes, including in the Chelan County and Douglas County Public Utility District AFAHCPs, the Grant County biological opinion, and U.S. v. Oregon. NMFS hopes the Plan's recommended goals and actions will be implemented through these ongoing processes. The Plan emphasizes that hatchery programs play an essential role in spring Chinook salmon and steelhead recovery. Among other measures, the Plan proposes that hatchery programs employ mechanisms to manage hatchery returns on spawning grounds in balance with naturally produced fish, while maintaining production levels identified in various agreements. It also proposes that, as the populations recover, hatchery programs should be modified to minimize adverse impacts of hatchery fish on naturally produced fish.

Integration: The Plan states that recovery will depend on integrating actions that address habitat, harvest, and hydroelectric operations; moreover, it emphasizes that recovery actions must be implemented at both the ESU/DPS and the population scales.

Time and Cost Estimates

The ESA section 4(f)(1) requires that the recovery plan include “estimates of the time required and the cost to carry out those measures needed to achieve the Plan's goal and to achieve intermediate steps toward that goal” (16 U.S.C. 1533[f][1]). Currently, the plan provides an overall cost estimate of $138 million, which represents the estimated cost of implementing the tributary actions for habitat, hatcheries, and research, monitoring, and evaluation, over 10 years.

Cost estimates for Columbia mainstem hydropower and estuary actions are included in two modules that NMFS developed because of the regional scope and applicability of the actions. These modules are incorporated into the Upper Columbia Plan by reference and are available on the NMFS Web site: www.nwr.noaa.gov/Salmon-Recovery-Planning/ESA-Recovery-Plans/Other-Documents.cfm. The hydropower cost estimates will be updated over time, as the section 7 consultation on the remanded 2004 FCRPS BiOp is completed. The estuary recovery costs could be further refined following public comment on the ESA recovery plan for the three listed lower Columbia ESUs and one listed Lower Columbia steelhead DPS in 2007. There are virtually no estimated costs for recovery actions associated with harvest to report at this time. This is because no actions are currently proposed that go beyond those already being implemented through U.S. v. Oregon and other harvest management forums. In the event that additional harvest actions are implemented through these forums, those costs will be added during the implementation phase of this recovery plan. All cost estimates will be refined and updated over time.

The Plan states that if its recommended actions are implemented, recovery of the spring Chinook salmon ESU and the steelhead DPS is likely to occur within 10 to 30 years. The cost estimates cover capital projects and non-capital work projected to occur within the first 10-year period. NMFS supports the policy determination to include 30 years of implementation, with the proviso that before the end of the first 10-year implementation period, specific actions and costs will be estimated for the subsequent years to achieve long-term goals and to proceed until a determination is made that listing is no longer necessary. NMFS agrees that a 10- to 30-year range is a reasonable period of time during which to implement and evaluate the actions identified in the Plan.

Conclusion

NMFS concludes that the Plan meets the requirements of ESA section 4(f) and thus is proposing it as an ESA recovery plan.

Literature Cited

Interior Columbia Technical Recovery Team. 2005a. Updated population delineation in the Interior Columbia Basin. National Marine Fisheries Service, Northwest Fisheries Science Center. Memorandum. May 11, 2005.

Interior Columbia Technical Recovery Team. 2005b. Viability criteria for application to Interior Columbia Basin salmonid ESUs. National Marine Fisheries Service, Northwest Fisheries Science Center. July 2005.

McElhany, P., M. H. Ruckelshaus, M. J. Ford, T. C. Wainwright, E. P. Bjorkstedt. 2000. Viable salmon populations and the recovery of evolutionarily significant units. U.S. Dept. of Commerce, NOAA Tech. Memo., NMFS-NWFSC-42, 156 p.

Public Comments Solicited

NMFS solicits written comments on the proposed Plan. All comments received by the date specified above will be considered prior to NMFS' decision whether to adopt the Plan. Additionally, NMFS will work with the UCSRB to provide a summary of the comments and responses through its regional Web site and provide a news release for the public announcing the availability of the response to comments. NMFS seeks comments particularly in the following areas: (1) The analysis of limiting factors and threats; (2) the recovery objectives, strategies, and actions; (3) the criteria for removing the ESU and DPS from the Federal list of endangered and threatened wildlife and plants; and (4) estimates of time and cost to implement recovery actions, including the intent to be even more specific by soliciting implementation schedules.

Authority: 16 U.S.C. 1531 et seq.

Dated: September 25, 2006.
James H. Lecky,
Director, Office of Protected Resources, National Marine Fisheries Service.

[FR Doc. E6-16083 Filed 9-28-06; 8:45 am]

BILLING CODE 3510-22-S